DEPARTMENT OF TRANSPORTATION

Federal Highway Administration

Environmental Impact Statement: Collin County, Texas

AGENCY: Texas Department of Transportation (TxDOT), Federal Highway. Administration (FHWA), Department of Transportation.

ACTION: Federal notice of intent to prepare an Environmental Impact Statement (EIS).

SUMMARY: FHWA, on behalf of TxDOT, is issuing this notice to advise the public that an EIS will be prepared for a proposed transportation project to construct the Spur 399 Extension, an eight-lane freeway on new location connecting United States (US) Highway 75 (south of McKinney) to US 380 (east of McKinney), in Collin County, Texas.

FOR FURTHER INFORMATION CONTACT: Mr. Stephen Endres, Project Manager, TxDOT Dallas District, 4777 E. US Highway 80, Mesquite, Texas 75150; Phone (214) 320-4469 or email: at Stephen.Endres@txdot.gov. TxDOT's normal business hours are 8:00 a.m.-5:00 p.m. (central time), Monday through Friday.

SUPPLEMENTARY INFORMATION: The environmental review, consultation, and other actions required by applicable Federal environmental laws for this project are being, or have been, carried-out by TxDOT pursuant to 23 U.S.C. 327 and a Memorandum of Understanding dated December 9, 2019, and executed by FHWA and TxDOT.

The purpose of the proposed project is to improve north-south mobility and connectivity for travelers from eastern Collin County to destinations south of McKinney, including the Dallas Metroplex. The project is needed because of the reduced mobility and connectivity provided by the existing arterial roadway network and the lack of regionally significant arterials to address the demands that current and forecasted population growth has on the existing transportation system. Project alternatives would extend existing Spur 399, a half mile-long roadway that transitions traffic among US 75, State Highway (SH) 5, and the Sam Rayburn Tollway (SH 121) just south of McKinney. The alternatives range in length from approximately 4.8 miles to 6.5 miles and would pass through the city of McKinney and unincorporated areas of Collin County. The proposed project would provide an access-controlled freeway with one-way frontage roads on each side within an anticipated right-of-way width of 320 to 400 feet. The typical freeway section would consist of four 12-foot (ft.) travel lanes in each direction and 10 ft. inside and outside shoulders. Grade-separated interchanges would include 14 ft. ramps with 2 ft. inside shoulders and 6 ft. outside shoulders, with curb & gutter. Bridges and overpasses along the main lanes would have a desired vertical clearance of 18.5 ft with vertical clearance over railroads desired at 23.5 ft. Sections of the new roadway may be elevated or not include frontage roads to lessen impacts.

In April 2020, TxDOT completed the US 380 Feasibility Study for Collin County, which recommended an alignment for the Spur 399 Extension between US 75 and US 380. One of the alternatives under consideration, the Purple Alternative, was part of the recommended alignment from the US 380 Feasibility Study.

The Purple Alternative begins at US 75 south of McKinney and would extend existing Spur 399 to the east somewhat parallel to Farm to Market Road (FM) 546 to approximately 500 feet west of the intersection of FM 546 and Couch Drive/Old Mill Road. The alignment would then begin to turn northward and run somewhat parallel to Airport Drive along the west side of the McKinney National Airport. The alignment would tie into US 380 east of McKinney near the existing US 380 and Airport Drive intersection.

The Orange Alternative would match the alignment of the Purple Alternative from US 75 to approximately 500 feet west of the intersection of FM 546 and Couch Drive/Old Mill Road, where it would continue south and east around the south end of the McKinney National Airport. The alignment would turn to the north as it crosses FM 546 at the southeast corner of the Airport and continue to the north crossing the East Fork of the Trinity River to tie into US 380 near FM 1827.

Both build alternatives share a common segment from US 75 to approximately 500 feet west of the intersection of FM 546 and Couch Drive/Old Mill Road. This segment is severely constrained due to the right-of-way for FM 546, existing and planned major water pipelines, the McKinney landfill, and a number of industrial developments. Both build alternatives would result in potential impacts to wetlands and waters of the US, floodplain/floodway encroachment and need for compensatory storage, conversion of farmland to transportation use, cultural resources, wildlife/habitat, air quality, traffic noise, the visual environment, induced growth, and cumulative effects.

The proposed action may require issuance of an Individual or Nationwide Permit under Section 404 of the Clean Water Act, Section 401 Water Quality Certification, Section 402/Texas Pollution Discharge Elimination System Permit; conformance with Executive Orders on Environmental Justice (12898), Limited English Proficiency (13166), Wetlands (11990), Floodplain Management (11988), Invasive Species (13112); and compliance with Section 106 of the National Historic Preservation Act, Section 7 of the Endangered Species Act, the Migratory Bird Treaty Act, Section 4(f) of the DOT Act (49 U.S.C. 303), Section 6(f) of the Land and Water Conservation Act (16 U.S.C. 4601), Title VI of the Civil Rights Act, and other applicable Federal and State regulations.

TxDOT anticipates completing the study process for this proposed action by January 2023.

TxDOT will issue a single Final Environmental Impact Statement and Record of Decision document pursuant to 23 U.S.C. 139(n)(2), unless TxDOT determines statutory criteria or practicability considerations preclude issuance of a combined document.

In accordance with 23 U.S.C. 139, cooperating agencies, participating agencies, and the public will be given an opportunity for continued input on project development. A virtual public scoping meeting is planned to be held on February 23, 2021. The meeting materials will be posted on http://www.drive380.com starting February 23, 2021 and will remain available through March 10, 2021, which is the date the comment period ends. The meeting will be hosted online and provide an opportunity for the public to review and comment on the draft coordination plan and schedule, the project purpose and need, the range of alternatives, and methodologies and level of detail for analyzing alternatives. It will also allow the public an opportunity to provide input on any expected environmental impacts, anticipated permits or other authorizations, and any significant issues that should be analyzed in depth in the EIS. In addition to the public scoping meeting, a public meeting will be held during development of the draft EIS, and a public hearing will be held after the draft EIS is prepared. Public notice will be given of the time and place of the meeting and hearing.

The public scoping meeting, public meeting, and public hearing will be conducted in English. If you need an interpreter or document translator because English is not your primary language or you have difficulty communicating effectively in English, one will be provided to you. If you have a disability and need assistance, special arrangements can be made to accommodate most needs. If you need interpretation or translation services or you are a person with a disability who requires an accommodation to participate in the public scoping meeting, please contact Mr. Patrick Clarke, Public Information Officer, Dallas District at (214) 320-4483 no later than 4 p.m. (central time), on February 16, 2021. Please be aware that advance notice is required as some services and accommodations may require time for the Texas Department of Transportation to arrange.

The public is requested to identify in writing potential alternatives, information, and analyses relevant to this proposed project. Such information may be provided by email to Mr. Stephen Endres, TxDOT Project Manager at Stephen.Endres@txdot.gov, or by mail to the TxDOT Dallas District, 4777 E. US Highway 80, Mesquite, Texas 75150. Such information must be received by March 10, 2021.

(Catalog of Federal Domestic Assistance Program Number 20.205, Highway Planning and Construction.)

Michael T. Leary,
Director, Planning and Program Development, Federal Highway Administration.

[FR Doc. 2021-00188 Filed 1-8-21; 8:45 am]

BILLING CODE 4910-22-P